FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of the agreements are available through the Commission's website (www.fmc.gov) or by contacting the Office of Agreements at (202)-523-5793 or tradeanalysis@fmc.gov.

Agreement No.: 011931-009.

Agreement Name: CMA CGM/Marfret Vessel Sharing Agreement for PAD Service.

Parties: CMA CGM S.A. and Compagnie Maritime Marfret.

Filing Party: Draughn Arbona; CMA CGM (America) LLC.

Synopsis: The amendment reverts the service string to a fortnightly service frequency. The parties request expedited review.

Proposed Effective Date: 10/15/2018.

Location: https://www2.fmc.gov/FMC.Agreements.Web/Public/AgreementHistory/512.

Agreement No.: 201271.

Agreement Name: MED/USEC Vessel Sharing Agreement.

Parties: American President Lines, ltd.; APL Co. Pte. Ltd.; CMA CGM S.A.; COSCO Shipping Lines Co., Ltd.; COSCO Shipping Lines (Europe) GmbH; Hapag-Lloyd AG, Ocean Network Express Pte. Ltd.; OOCL (Europe) Limited; Orient Overseas Container Line Limited; and Yang Ming Marine Transport Corporation and Yangming (UK) Ltd.

Filing Party: Josh Stein; Cozen O'Connor.

Synopsis: The Agreement authorizes the Parties to charter and exchange space on their respective vessels in the Agreement trade and to enter into cooperative working arrangements in connection therewith. The Agreement covers the trades between ports in the Mediterranean (France, Italy, Malta, Morocco and Spain) and U.S. ports in the Atlantic coast range.

Proposed Effective Date: 10/15/2018.

Location: https://www2.fmc.gov/FMC.Agreements.Web/Public/AgreementHistory/16275.

Dated: September 4, 2018.
Rachel Dickon,
Secretary.

[FR Doc. 2018-19467 Filed 9-7-18; 8:45 am]

BILLING CODE 6731-AA-P